DEPARTMENT OF DEFENSE

Office of the Secretary

Federal Advisory Committee Meeting; Military Leadership Diversity Commission (MLDC)

AGENCY: Office of the Under Secretary of Defense for Personnel and Readiness, DoD.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the Military Leadership Diversity Commission (MLDC) will meet on November 17 and 18, 2009. Subject to the availability of space, the meeting is open to the public on a first-come basis.

DATES: The meeting will be held on Wednesday, November 17, 2009, from 8:30 a.m. to 3 p.m. and on Thursday, November 18, 2009, from 8:30 a.m. to 6 p.m.

ADDRESSES: The meeting will be held at the Radisson Hotel, 3101 North Hwy. A1A, Melbourne, Florida 32903.

FOR FURTHER INFORMATION CONTACT: Master Chief Steven A. Hady, Designated Federal Officer, MLDC, at (703) 602-0838 or (703) 347-5295, 1851 South Bell Street, Suite 532, Arlington, VA. E-mail Steven.Hady@wso.whs.mil.

SUPPLEMENTARY INFORMATION:

Purpose of the Meeting

The purpose of the meeting is for the commissioners of the Military Leadership Diversity Commission to continue their efforts to address congressional concerns as outlined in the commission charter.

Agenda

Wednesday, November 17, 2009

8:30 a.m.-1 p.m.

DFO opens the meeting

Commission Chairman opening remarks

Open discussion on process

Open discussion on topics related to definition of diversity

1 p.m.

DFO adjourns the meeting

2 p.m.-3 p.m.

DFO opens the meeting

Briefings from representatives from DEOMI and Q&A

3 p.m.

DFO adjourns the meeting

Thursday, November 18, 2009

8:30 a.m.-1 p.m.

DFO opens the meeting

Commission Chairman opening remarks

DFO opens the meeting

Open discussion on topics related to recruiting and outreach

Open discussion on way forward.

1 p.m.

DFO adjourns the meeting

2 p.m.

DFO opens the meeting

Briefings from Service representatives from organizations responsible for career Development.

5:45 pm

Time available for Public comments

6 p.m.

DFO adjourns the meeting

Public's Accessibility to the Meeting

Pursuant to 5 U.S.C. 552b and 41 CFR 102-3.140 through 102-3.165, and the availability of space, the meetings will be open to the public. Please note that the availability of seating is on a first-come basis.

Written Statements

Pursuant to 41 CFR 102-3.105(j) and 102-3.140, and section 10(a)(3) of the Federal Advisory Committee Act of 1972, the public or interested organizations may submit written statements to the Military Leadership Diversity Commission about its mission and functions. Written statements may be submitted at any time or in response to the stated agenda of a planned meeting of the Military Leadership Diversity Commission.

All written statements shall be submitted to the Designated Federal Officer for the Military Leadership Diversity Commission, and this individual will ensure that the written statements are provided to the membership for their consideration. Contact information for the Designated Federal Officer can be obtained from the GSA's FACA Database— https://www.fido.gov/facadatabase/public.asp.

Statements being submitted in response to the agenda mentioned in this notice must be received by the Designated Federal Officer at the address listed under FOR FURTHER INFORMATION CONTACT at least five calendar days prior the meeting which is the subject of this notice. Written statements received after this date may not be provided to or considered by the Military Leadership Diversity Commission until its next meeting.

The Designated Federal Officer will review all timely submissions with the Military Leadership Diversity Commission Chairperson and ensure they are provided to all members of the Military Leadership Diversity Commission before the meeting that is the subject of this notice.

Dated: October 23, 2009.
Patricia L. Toppings,
OSD Federal Register Liaison Officer, Department of Defense.

[FR Doc. E9-26041 Filed 10-28-09; 8:45 am]

BILLING CODE 5001-06-P